SECURITIES AND EXCHANGE COMMISSION

Submission for OMB Review; Comment Request

Upon Written Request, Copies Available From: Securities and Exchange Commission, Office of Investor Education and Advocacy, Washington, DC 20549-0213

Extension:

Rule 17f-2(c), SEC File No. 270-35, OMB Control No. 3235-0029

Notice is hereby given that pursuant to the Paperwork Reduction Act of 1995 (44 U.S.C. 3501 et seq.), the Securities and Exchange Commission (“Commission”) has submitted to the Office of Management and Budget a request for approval of extension of Rule 17f-2(c).

• Rule 17f-2(c) (17 CFR 240.17f-2(c))

Rule 17f-2(c) allows persons required to be fingerprinted pursuant to Section 17(f)(2) of the Securities Exchange Act of 1934 to submit their fingerprints through a registered securities exchange or a national securities association in accordance with a plan submitted to and approved by the Commission. The Commission has approved such plans for several exchanges and for the Financial Industry Regulatory Authority, Inc. (“FINRA”).

It is estimated that 5,984 respondents submit approximately 368,000 fingerprint cards to exchanges or a national securities association on an annual basis. The Commission estimates that it would take approximately 15 minutes to create and submit each fingerprint card. The total reporting burden is therefore estimated to be 92,000 hours, or approximately 15 hours per respondent, annually. In addition, the exchanges and FINRA charge an estimated $30 fee for processing fingerprint cards, resulting in a total annual cost to all 5,984 respondents of $11,040,000, or $1,845 per respondent per year.

Because the Federal Bureau of Investigation will not accept fingerprint cards directly from submitting organizations, Commission approval of plans from certain exchanges and national securities associations is essential to the Congressional goal of fingerprint personnel in the security industry. The filing of these plans for review assures users and their personnel that fingerprint cards will be handled responsibly and with due care for confidentiality.

Submission of fingerprint plans under Rule 17f-2(c) is mandatory for self-regulatory organizations. An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or by sending an e-mail to: Kimberly_P._Nelson@omb.eop.gov; and (ii) Lewis W. Walker, Acting Director/Chief Information Officer, Securities and Exchange Commission, c/o Shirley Martinson, 6432 General Green Way, Alexandria, Virginia 22312; or by sending an e-mail to: PRA_Mailbox@sec.gov. Comments must be submitted to OMB within 30 days of this notice.

Dated: September 8, 2008.
Florence E. Harmon,
Acting Secretary.

[FR Doc. E8-21531 Filed 9-15-08; 8:45 am]

BILLING CODE 8010-01-P